FEDERAL COMMUNICATIONS COMMISSION

[FR ID 96660]

Deletion of Item From July 14, 2022 Open Meeting

The following item was released by the Commission on July 13, 2022 and deleted from the list of items scheduled for consideration at the Thursday, July 14, 2022, Open Meeting. This item was previously listed in the Commission's Sunshine Notice on Thursday, July 7, 2022.

3 | MEDIA | Title: Preserving Local Radio Programming (MB Docket No. 03-185).
|  | Summary: The Commission will consider a Notice of Proposed Rulemaking regarding a proposal to allow certain channel 6 low power television stations to continue to provide FM radio service as ancillary or supplementary service under specified conditions.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530. Additional information concerning this meeting may be obtained from the Office of Media Relations, (202) 418-0500. Audio/Video coverage of the meeting will be broadcast live with open captioning over the internet from the FCC Live web page at www.fcc.gov/live.

Federal Communications Commission.
Dated: July 13, 2022.
Marlene Dortch,
Secretary.

[FR Doc. 2022-15636 Filed 7-21-22; 8:45 am]

BILLING CODE 6712-01-P